FEDERAL COMMUNICATIONS COMMISSION

Public Information Collections Approved by Office of Management and Budget

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Jennifer Mock, Federal Communications Commission, 445 12th Street, SW., Washington, DC 20554, (202) 418-7234 or via the Internet at Jennifer.Mock@fcc.gov.

SUPPLEMENTARY INFORMATION: OMB Control No.: 3060-1021.

OMB Approval Date: 11/7/2005.

OMB Expiration Date: 11/30/2008.

Title: Section 25.139, NGSO FSS coordination and information sharing between MVDDS licenses in the 12.2 GHz to 12.7 GHz band.

Form No.: N/A.

Estimated Annual Burden: 6 respondents; 36 annual burden hours; 6 hour per respondent.

Needs and Uses: Section 43.21(c) requires each miscellaneous common carrier with operating revenues in excess of the indexed threshold as defined in 47 CFR 32.900 for a calendar year to file with the Chief, Wireline Competition Bureau (formerly the Common Carrier Bureau) a letter showing its operating revenues for that year and the value of its total communications plant at the end of that year. The letter must be filed no later that April 1 of the following year. The information is used by FCC staff members to regulate and monitor the telephone industry and by the public to analyze the industry. The information or revenues and total plant is compiled and published in the Commission's annual common carrier statistical publication and trends in telephone service report.

OMB Control No.: 3060-1022.

OMB Approval Date: 1/13/2006

OMB Expiration Date: 1/31/2009.

Title: Section 101.1403, Broadcast Carriage Requirements.

Form No.: N/A.

Estimated Annual Burden: 214 respondents; 214 annual burden hours; 1 hour per respondent.

Needs and Uses: On July 7, 2003, the FCC released a Third Report and Order in ET Docket No. 98-206, FCC 03-152, which requires Multichannel Video Distribution and Data Service (MVDDS) respondents that meet the statutory definition of Multiple Video Programming Distributor (MVPD) to comply with the broadcast carriage requirements located at 47 U.S.C. 325(b)(1). Any MVDDS licensee that is an MVPD must obtain the prior express authority of a broadcast station before retransmitting that station's signal, subject to the exceptions contained in section 325(b)(2) of the Communications Act of 1934, as amended. Additionally, the Commission decided to change from the original Component Economic Areas (CEAs) to Designated Market Areas (DMAs) to allow for advanced wireless services.

OMB Control No.: 3060-1023.

OMB Approval Date: 1/13/2006.

OMB Expiration Date: 1/31/2009.

Title: Section 101.103, Frequency Coordination Procedures.

Form No.: N/A.

Estimated Annual Burden: 214 respondents; 1177 total annual burden hours; (estimated time per respondent to complete letter for consent is 0.5 hours × 214 = 107 burden hours, estimated time per respondent to establish and update Internet site is 5 hours × 214 = 1070 burden hours, 107 + 1070 = 1177 total burden hours).

Needs and Uses: On July 7, 2003, the FCC released a Third Report and Order in ET Docket No. 98-206, FCC 03-152, which requires Multichannel Video Distribution and Data Service (MVDDS) licensees to provide notice of intent to construct a proposed antenna to NGSO FSS licensing operating in the 12.2-12.7 GHz frequency band and to maintain an Internet Web site of all existing transmitting sites and transmitting antennas that are scheduled for operation within one year including the “in service” dates. Additionally, the Commission decided to change from the original Component Economic Areas (CEAs) to Designated Market Areas (DMAs) to allow for advanced wireless services.

OMB Control No.: 3060-1024.

Title: Section 101.1413, License Term and Renewal Expectancy; Section 101.1421, Coordination of Adjacent Area MVDDS Stations and Incumbent Public Safety POFS Stations.

Form No.: N/A.

Estimated Annual Burden: 214 respondents; 107 total annual burden hours; 0.5 hours per respondent.

Needs and Uses: On July 7, 2003, the FCC released a Third Report and Order in ET Docket No. 98-206, FCC 03-152, which requires Multichannel Video Distribution and Data Service (MVDDS) renewal applicants to comply with the requirements to provide substantial service by the end of the ten year initial license term. Additionally, the Commission decided to change from the original Component Economic Areas (CEAs) to Designated Market Areas (DMAs) to allow for advanced wireless services.

OMB Control No.: 3060-1025.

Title: Section 101.1440, MVDDS Protection of Direct Broadcast Satellites (DBS).

Form No.: N/A.

Estimate Annual Burden: 217 respondents; 8,635 total burden hours; (214 MVDDS licensees × 40 hours = 8560 burden hours, 3 DBS licensees x 25 hours = 75 burden hours, totaling 8635 total annual burden hours).

Needs and Uses: On July 7, 2003, the FCC released a Third Report and Order in ET Docket No. 98-206, FCC 03-152, which requires Multichannel Video Distribution and Data Service (MVDDS) licensees to conduct a survey of the area around its proposed transmitting antenna site to determine the location of all DBS customers that may potentially be effected by the introduction of its MVDDS service. The MO&O and Second Report and Order will ensure that MVDDS signal will not be in excess of the appropriate Equivalent Power Flux Density (EPFD) limits as written in 47 CFR 101.105(a)(4)(ii)(B) is causing interference to DBS customers. If the MVDDS licensee determines that its signal level will exceed the EPFD limit at any DBS customer site, it shall take whatever steps are necessary, up to and including finding a new transmission site. Additionally, the Commission decided to change from the original Component Economic Areas (CEAs) to Designated Market Areas (DMAs) to allow for advanced wireless services.

OMB Control No.: 3060-1026.

Title: Section 101.1417, Annual Report.

Form No.: N/A.

Estimated Annual Burden: 214 respondents; 214 total annual burden hours; 1 hour per respondent.

Needs and Uses: On July 7, 2003, the FCC released a Third Report and Order in ET Docket No. 98-206, FCC 03-152, which requires Multichannel Video Distribution and Data Service (MVDDS) licensees to file two copies of a “licensee information report” by March 1st of each year with the Commission, for the preceding calendar year. This report must include the name and address of the licensee, station(s) call letters and primary geographic service area(s), and statistical data for the licensee's station(s). This report enables the Commission to keep track of the number of MVDDS licensee stations. Additionally, the Commission decided to change from the original Component Economic Areas (CEAs) to Designated Market Areas (DMAs) to allow for advanced wireless services.

Federal Communications Commission.
Marlene H. Dortch,
Secretary.

[FR Doc. E6-5196 Filed 4-7-06; 8:45 am]

BILLING CODE 6712-01-P